POSTAL SERVICE

International Product Change—International Priority Airmail Agreement

AGENCY: Postal Service™.

ACTION: Notice.

SUMMARY: The Postal Service gives notice of filing a request with the Postal Regulatory Commission to add an International Priority Airmail contract to the list of Negotiated Service Agreements in the Competitive Product List in the Mail Classification Schedule.

DATES: Date of notice: June 29, 2020.

FOR FURTHER INFORMATION CONTACT: Christopher C. Meyerson, (202) 268-7820.

SUPPLEMENTARY INFORMATION: The United States Postal Service® hereby gives notice that, pursuant to 39 U.S.C. 3642 and 3632(b)(3), on June 15, 2020, it filed with the Postal Regulatory Commission a USPS Request to Add International Priority Airmail Contract 1 to Competitive Product List. Documents are available at www.prc.gov, Docket Nos. MC2020-164 and CP2020-187.

Joshua J. Hofer,
Attorney, Federal Compliance.

[FR Doc. 2020-13839 Filed 6-26-20; 8:45 am]

BILLING CODE 7710-12-P